DEPARTMENT OF COMMERCE

International Trade Administration

[A-570-079, C-570-080]

Cast Iron Soil Pipe From the People's Republic of China: Continuation of Antidumping and Countervailing Duty Orders

AGENCY: Enforcement and Compliance, International Trade Administration, Department of Commerce.

SUMMARY: As a result of the determinations by the U.S. Department of Commerce (Commerce) and the U.S. International Trade Commission (ITC) that revocation of the antidumping duty (AD) and countervailing duty (CVD) orders on cast iron soil pipe from the People's Republic of China (China) would likely lead to the continuation or recurrence of dumping, countervailable subsidies, and material injury to an industry in the United States, Commerce is publishing a notice of continuation of these AD and CVD orders.

DATES: Applicable October 24, 2024.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On May 3, 2019, Commerce published in the Federal Register the AD and CVD orders on cast iron soil pipe from China.¹ On April 1, 2024, the ITC instituted,² and Commerce initiated,³ the first sunset reviews of the AD Order and the CVD Order, pursuant to section 751(c) of the Tariff Act of 1930, as amended (the Act). As a result of its reviews, Commerce determined that revocation of the AD Order and CVD Order would likely lead to continuation or recurrence of dumping and countervailable subsidies and, therefore, notified the ITC of the magnitude of the margins of dumping and net countervailable subsidy rates likely to prevail should the AD Order ⁴ and CVD Order ⁵ be revoked.

¹ See Cast Iron Soil Pipe from the People's Republic of China: Antidumping Duty Order, 84 FR 19035 (May 3, 2019) (AD Order); see also Cast Iron Soil Pipe from the People's Republic of China: Countervailing Duty Order, 84 FR 19039 (May 3, 2019) (CVD Order) (collectively, Orders).

² See Cast Iron Soil Pipe from China; Institution of Five-Year Reviews, 89 FR 22448 (April 1, 2024).

³ See Initiation of Five-Year (Sunset) Reviews, 89 FR 22373 (April 1, 2024).

⁴ See Cast Iron Soil Pipe from the People's Republic of China: Final Results of the Expedited First Sunset Review of the Antidumping Duty Order, 89 FR 64871 (August 8, 2024).

⁵ See Cast Iron Soil Pipe from the People's Republic of China: Final Results of the Expedited First Sunset Review of the Countervailing Duty Order, 89 FR 64874 (August 8, 2024).

On October 24, 2024, the ITC published its determinations, pursuant to sections 751(c) and 752(a) of the Act, that revocation of the AD Order and CVD Order would likely lead to continuation or recurrence of material injury to an industry in the United States within a reasonably foreseeable time.⁶

⁶ See Cast Iron Soil Pipe from China Determinations, 89 FR 84933 (October 24, 2024).

Scope of the Orders

The merchandise covered by the Orders is cast iron soil pipe, whether finished or unfinished, regardless of industry or proprietary specifications, and regardless of wall thickness, length, diameter, surface finish, end finish, or stenciling. The scope of these Orders includes, but is not limited to, both hubless and hub and spigot cast iron soil pipe. Cast iron soil pipe is nonmalleable iron pipe of various designs and sizes. Cast iron soil pipe is generally distinguished from other types of nonmalleable cast iron pipe by the manner in which it is connected to cast iron soil pipe fittings.

Cast iron soil pipe is classified into two major types—hubless and hub and spigot. Hubless cast iron soil pipe is manufactured without a hub, generally in compliance with Cast Iron Soil Pipe Institute (CISPI) specification 301 and/or American Society for Testing and Materials (ASTM) specification A888, including any revisions to those specifications. Hub and spigot pipe has one or more hubs into which the spigot (plain end) of a fitting is inserted. All pipe meeting the physical description set forth above is covered by the scope of these Orders, whether or not produced according to a particular standard.

The subject imports are currently classified in subheading 7303.00.0030 of the Harmonized Tariff Schedule of the United States (HTSUS): Cast iron soil pipe. The HTSUS subheading and specifications are provided for convenience and customs purposes only; the written description of the scope of these Orders is dispositive.

Continuation of the Orders

As a result of the determinations by Commerce and the ITC that revocation of the AD Order and CVD Order would likely lead to a continuation or recurrence of dumping, countervailable subsidies, and material injury to an industry in the United States, pursuant to section 751(d)(2) of the Act and 19 CFR 351.218(a), Commerce hereby orders the continuation of the Orders. U.S. Customs and Border Protection will continue to collect AD and CVD cash deposits at the rates in effect at the time of entry for all imports of subject merchandise.

The effective date of the continuation of the Orders will be October 24, 2024.⁷ Pursuant to section 751(c)(2) of the Act and 19 CFR 351.218(c)(2), Commerce intends to initiate the next five-year review of the Orders not later than 30 days prior to the fifth anniversary of the date of the last determination by the ITC.

⁷ Id.

Administrative Protective Order (APO)

This notice also serves as the only reminder to parties subject to an APO of their responsibility concerning the return, destruction, or conversion to judicial protective order of proprietary information disclosed under APO in accordance with 19 CFR 351.305(a)(3). Timely written notification of the return or destruction of APO materials or conversion to judicial protective order is hereby requested. Failure to comply is a violation of the APO which may be subject to sanctions.

Notification to Interested Parties

These five-year sunset reviews and this notice are in accordance with sections 751(c) and 751(d)(2) of the Act, and published in accordance with section 777(i)(1) of the Act and 19 CFR 351.218(f)(4).

Dated: November 12, 2024.
Abdelali Elouaradia,
Deputy Assistant Secretary for Enforcement and Compliance.

[FR Doc. 2024-26767 Filed 11-15-24; 8:45 am]

BILLING CODE 3510-DS-P